DEPARTMENT OF HEALTH AND HUMAN SERVICES

Health Resources and Services Administration

Notice of Intent To Make Changes in the State Title V Maternal and Child Health Block Grant Allocations

AGENCY: Health Resources and Services Administration, HHS.

ACTION: Response to solicitation of comments.

SUMMARY: The Health Resources and Services Administration's (HRSA) Maternal and Child Health Bureau (MCHB) plans to move forward in implementing annual changes to the State Title V MCH Block Grant allocations, beginning in Federal Fiscal Year (FY) 2013, using the U.S. Census Bureau's 3-year American Community Survey (ACS) poverty estimates. Title V MCH Block Grant funds are currently allocated to states based in part on a calculation of the number of children living in poverty (in an individual state) as compared to the total number of children living in poverty in the United States. Historically, data for the number of children in poverty in each state came from the Decennial Census. As the Census Bureau has replaced the Decennial Census long-form sample questionnaire with the ACS, MCHB plans to use the ACS as its source for this data. In order to maintain balance between precision and currency, annual changes to the State Title V MCH Block Grant allocations will be based on a rolling average of the 3-year ACS poverty estimates.

Yearly changes in the MCH Block Grant allocations for individual states will be buffered by the use of shared data for two of the three data years in the rolling period estimate. According to the U.S. Census Bureau, the ACS is the best source of survey-based state-level income and poverty estimates. Moreover, ACS child poverty estimates are produced annually, and their use will allow the Block Grant allocation proportions to be updated more frequently than every 10 years.

FOR FURTHER INFORMATION CONTACT: Cassie Lauver, Director, Division of State and Community Health, Maternal and Child Health Bureau, Health Resources and Services Administration, 5600 Fishers Lane, Parklawn Building, Room 18-31, Rockville, Maryland 20857, or by telephone at (301) 443-2204.

DATES: Effective Date: October 30, 2012.

SUPPLEMENTARY INFORMATION: Beginning in FY 2013, HRSA will use the U.S. Census Bureau's ACS 3-year rolling average data to determine the annual poverty-based allocations to states under Section 502 of Title V of the Social Security Act (42 U.S.C. 702). The Census Bureau produces annual state-level poverty estimates based on the most recent 1, 3, and 5 years of ACS data, as well as annual model-based Small Area Income and Poverty Estimates (SAIPE). Based on a thorough review, HRSA determined that the 3-year time frame strikes an appropriate balance between reliability (strength of 5-year estimates) and currency (strength of 1-year estimates). The 3-year estimates provide necessary stability in annual poverty-based allocation changes for all states, regardless of size, while still allowing the allocations to be responsive to changes in the distribution of children in poverty across states. With the 3-year estimates for FY 2013 already available, states have been informed of the proposed changes and need for adjustment from the existing allocation proportions based on the 2000 Census data. The ACS data are released annually by the U.S. Census Bureau in October which will allow states to be aware of the poverty-based allocation proportions close to a year in advance of each subsequent fiscal year.

The proposed change in State Title V MCH Block Grant allocations was announced in the Federal Register at 77 FR 42749 on July 20, 2012. A comment period of 60 days was established to allow interested parties to submit comments. HRSA received three responses. The responses included two comments that specifically discussed the potential impacts of the proposed change in State MCH Block Grant formula allocations using the 3-year ACS child poverty estimates. Responses to these comments are provided below.

The remaining comments did not specifically address the proposed changes in State Title V MCH Block Grant allocation, but instead expressed concern with the size of the federal government; accuracy of Census data, generally; and equity of the statutorily-mandated Title V funding formula. These issues were not addressed in greater detail because they are beyond the scope of this notice.

Comments and Responses

Comment: Timing of the proposed change is inopportune in light of the potential for significant reductions in State MCH Block Grant allocations as a result of sequestration.

Response: The timing of the proposed changes to the state formula allocations is consistent with the 10-year interval for updating formula allocations based on the U.S. Census Bureau's Decennial Census. Current formula allocations are based on 2000 U.S. Census child poverty data. Use of a 3-year rolling average of the ACS child poverty data will allow for annual updates to the State MCH Block Grant formula allocations and greater responsiveness to changes in the distribution of children in poverty across states.

Comment: If the new methodology is implemented and will use the ACS, the 5-year rather than the 3-year estimate should be used.

Response: Researchers in MCHB's Office of Epidemiology and Research evaluated the impact of using 1-year, 3-year, and 5-year ACS data, and the single-year SAIPE on annual poverty-based allocation changes as well as overall allocation changes. Consistent with the documentation and guidelines provided by the U.S. Census Bureau, the poverty data are the most current and least precise through the use of 1-year data and least current but most precise through the use of 5-year data. Using the 3-year ACS poverty data achieves a reasonable balance between reliability and currency.

Dated: October 23, 2012.
Mary K. Wakefield,
Administrator.

[FR Doc. 2012-26579 Filed 10-29-12; 8:45 am]

BILLING CODE 4165-15-P